CORPORATION FOR NATIONAL AND COMMUNITY SERVICE

Notice of Designation of Inspector General as a Debarring Official for Limited Purposes

AGENCY: Corporation for National and Community Service.

ACTION: Notice.

SUMMARY: Pursuant to a directive included in the Consolidated Appropriations Act of 2004 and the Consolidated Appropriations Act of 2005, the Chief Executive Officer of the Corporation for National and Community Service (CNCS) has designated the Inspector General of CNCS as a debarring official for grantees that administer activities under AmeriCorps programs.

EFFECTIVE DATE: December 29, 2004.

FOR FURTHER INFORMATION CONTACT: Irshad Abdal-Haqq, Associate General Counsel, Office of General Counsel, 1201 New York Avenue, NW., Washington, DC, 20525, (202) 606-5000 Ext. 434 (iabdal-haqq@cns.gov).

SUPPLEMENTARY INFORMATION: The Corporation has designated its Inspector General as a debarring official pursuant to the Consolidated Appropriations Act of 2004 and the Consolidated Appropriations Act of 2005, which state, “[t]he Inspector General of the Corporation for National and Community Service shall conduct random audits of the grantees that administer activities under the AmeriCorps programs and shall levy sanctions in accordance with standard Inspector General audit resolution procedures which include, but are not limited to, debarment of any grantee (or successor in interest or any entity with substantially the same person or persons in control) that has been determined to have committed any substantial violations of the requirements of the AmeriCorps programs, including any grantee that has been determined to have violated the prohibition of using Federal funds to lobby the Congress: Provided, That the Inspector General shall obtain reimbursements in the amount of any misused funds from any grantee that has been determined to have committed any substantial violations of the requirements of the AmeriCorps programs.”

The Inspector General is now a debarring official for grantees that administer activities under AmeriCorps programs. This authority applies to AmeriCorps grantees that have been the subject of an Office of Inspector General (OIG) audit, or the subject of an audit and investigation. The Inspector General intends to exercise this authority with respect to the subject of any audit report issued on or after January 23, 2004, the date the Consolidated Appropriations Act of 2004 became effective. In processing debarment actions, the Inspector General will follow the procedures in the Corporation's debarment and suspension regulation, codified in 45 CFR 2542.

The following programs may trigger OIG debarment authority:

• Any program that receives Corporation funds under Section 121 (Subtitle C State/National) of the NCSA (includes the following recipients of AmeriCorps funding: States, subdivisions of States, Indian tribes, nonprofit organizations, and institutions of higher education).

• Any program that receives approved AmeriCorps positions (includes Education Awards Program, AmeriCorps Promise Fellows, and AmeriCorps VISTA).

• Any program that receives Planning, Operational, and Replication funding authorized under Section 124 of the NCSA.

The following programs will not trigger OIG debarment authority:

• Domestic Volunteer Service Act funded programs other than AmeriCorps VISTA (including Retired and Senior Volunteer Program, Special Volunteer Program, Foster Grandparent Program, and Senior Companion Program).

• Learn & Serve America.

• State Commission Administrative Program Assistance.

• Challenge, Next Generation, Martin Luther King, Jr. Day, Points of Light Foundation, America's Promise, and other earmarked programs outside of AmeriCorps.

• Training & Technical Assistance.

• Program Development Assistance & Training (PDAT).

• Disability Outreach and Placement.

If a grantee administers multiple programs, only the AmeriCorps programs trigger OIG debarment authority.

Dated: December 22, 2004.
Frank R. Trinity,
General Counsel.

[FR Doc. 04-28446 Filed 12-28-04; 8:45 am]

BILLING CODE 6050-$$-P